DEPARTMENT OF THE INTERIOR

National Indian Gaming Commission

25 CFR Parts 502 and 546

Classification Standards for Bingo, Lotto, Other Games Similar to Bingo, Pull Tabs and Instant Bingo as Class II Gaming When Played Through an Electronic Medium Using “Electronic, Computer, or Other Technologic Aids”

AGENCY: National Indian Gaming Commission, Interior.

ACTION: Notice of Extension of Comment Period.

SUMMARY: The National Indian Gaming Commission (“NIGC”) announces the extension of the comment period on the proposed rule concerning Classification Standards for Bingo, Lotto, Other Games Similar to Bingo, Pull Tabs and Instant Bingo as Class II Gaming When Played Through an Electronic Medium Using “Electronic, Computer, or Other Technologic Aids.” The proposed rule was published in the Federal Register on October 24, 2007 (72 FR 60483). The NIGC is extending the comment period to March 9, 2008.

DATES: Submit comments on the proposed Classification Standards for Bingo, Lotto, Other Games Similar to Bingo, Pull Tabs and Instant Bingo as Class II Gaming When Played Through an Electronic Medium Using “Electronic, Computer, or Other Technologic Aids” on or before March 9, 2008.

ADDRESSES: Mail comments to “Comments on Class II Classification Standards,” National Indian Gaming Commission, 1441 L Street, NW., Washington, DC 20005, Attn: Penny Coleman, Acting General Counsel. Comments may be transmitted by facsimile to 202-632-7066. Comments may be sent electronically to classification_standards@nigc.gov. Comments may also be submitted through the Federal eRulemaking portal at www.regulations.gov.

FOR FURTHER INFORMATION CONTACT: John R. Hay, Office of General Counsel, at 202-632-7003 (this is not a toll free call).

SUPPLEMENTARY INFORMATION: Congress established the National Indian Gaming Commission under the Indian Gaming Regulatory Act of 1988 (25 U.S.C. 2701-21) (“IGRA”) to regulate gaming on Indian lands. The NIGC issued a proposed rule regarding classification standards for Bingo, Lotto, other games similar to Bingo, Pull Tabs and Instant Bingo as class II gaming when played through an electronic medium using electronic, computer, or other technologic aids, which was published in the Federal Register on October 24, 2007 (72 FR 60483). The proposed rule provided for public comments to be submitted by December 10, 2007. The NIGC extended the comment period to January 24, 2008, in the Notice of Extension of Comment Period, published in the Federal Register on November 16, 2007 (72 FR 64545). The NIGC is again extending the comment period on the proposed Classification Standards for Bingo, Lotto, Other Games Similar to Bingo, Pull Tabs and Instant Bingo as Class II Gaming When Played Through an Electronic Medium Using “Electronic, Computer, or Other Technologic Aids” to March 9, 2008. Comments should be submitted on or before March 9, 2008.

Importantly, the deadline for submitting comments on the burden, estimates or any other aspects of the information collection requirements under the Paperwork Reduction Act of 1995, 44 U.S.C. 3501, et seq., remains January 24, 2008, as provided in the notice published in the Federal Register on November 28, 2007 (72 FR 67251).

Dated: January 11, 2008.
Philip N. Hogen,
Chairman, National Indian Gaming Commission.
Norman H. DesRosiers,
Commissioner, National Indian Gaming Commission.

[FR Doc. E8-769 Filed 1-16-08; 8:45 am]

BILLING CODE 7565-01-P